DEPARTMENT OF TRANSPORTATION

Federal Aviation Administration

14 CFR Part 71

[Docket No. FAA-2005-20577; Airspace Docket No. 05-ACE-14]

Modification of Class E Airspace; Harper, KS; Correction

AGENCY: Federal Aviation Administration (FAA), DOT.

ACTION: Direct final rule; confirmation of effective date; correction.

SUMMARY: This document confirms the effective date and corrects the legal description of the direct final rule; request for comments published in the Federal Register on Monday, April 11, 2005 (70 FR 18297) which revises Class E airspace at Harper, KS.

DATES: Effective: 0901 UTC, July 7, 2005.

FOR FURTHER INFORMATION CONTACT: Brenda Mumper, Air Traffic Division, Airspace Branch, ACE-520A, DOT Regional Headquarters Building, Federal Aviation Administration, 901 Locust, Kansas City, MO 64106; telephone: (816) 329-2524.

SUPPLEMENTARY INFORMATION: The FAA published this direct final rule with a request for comments in the Federal Register on April 11, 2005 (70 FR 18297). The FAA uses the direct final rulemaking procedure for a non-controversial rule where the FAA believes that there will be no adverse public comment. This direct final rule advised the public that no adverse comments were anticipated, and that unless a written adverse comment, or a written notice of intent to submit such an adverse comment, were received within the comment period, the regulation would become effective on July 7, 2005. A comment with merit indicating a need to correct the legal description was received. This notice confirms that this direct final rule will become effective on July 7, 2005 with a correction made to the legal description for the Class E Airspace, Harper, KS.

Correction of Publication

Accordingly, the publication of April 11, 2005 (70 FR 18297) is corrected as follows:

§ 71.1 [Corrected]

ACE KS E5 Harper, KS [Corrected]

On page 18299, column 1, change the Class E legal description as follows:

* * * * *

“VORTAC 040° radial extending from the 7.4-mile radius of the airport to the VORTAC, excluding that airspace east of long. 98° 00′ 00″.”

* * * * *

Issued in Kansas City, MO, on May 17, 2005.
Elizabeth S. Wallis,
Acting Area Director, Western Flight Services Operations.

[FR Doc. 05-10906 Filed 6-1-05; 8:45 am]

BILLING CODE 4910-13-M